DEPARTMENT OF COMMERCE

National Oceanic and Atmospheric Administration

50 CFR Part 300

[Docket No. 190220141-9141-01]

RIN 0648-PIR-A001

International Fisheries; Western and Central Pacific Fisheries for Highly Migratory Species; Closure of Purse Seine Fishery in the ELAPS in 2019

AGENCY: National Marine Fisheries Service (NMFS), National Oceanic and Atmospheric Administration (NOAA), Commerce.

ACTION: Temporary rule; fishery closure.

SUMMARY: NMFS announces that the purse seine fishery in the Effort Limit Area for Purse Seine, or ELAPS, will close as a result of reaching the 2019 limit on purse seine fishing effort in the ELAPS. This action is necessary for the United States to implement provisions of a conservation and management measure adopted by the Commission for the Conservation and Management of Highly Migratory Fish Stocks in the Western and Central Pacific Ocean (WCPFC or Commission) and to satisfy the obligations of the United States under the Convention on the Conservation and Management of Highly Migratory Fish Stocks in the Western and Central Pacific Ocean (Convention), to which it is a Contracting Party.

DATES: Effective 00:00 on October 9, 2019 Universal Coordinated Time (UTC), until 24:00 on December 31, 2019 UTC.

FOR FURTHER INFORMATION CONTACT: Rini Ghosh, NMFS Pacific Islands Regional Office, 808-725-5033.

SUPPLEMENTARY INFORMATION: U.S. purse seine fishing in the area of application of the Convention, or Convention Area, is managed, in part, under the Western and Central Pacific Fisheries Convention Implementation Act, 16 U.S.C. 6901 et seq. (Act). Regulations implementing the Act are at 50 CFR part 300, subpart O. On behalf of the Secretary of Commerce, NMFS promulgates regulations under the Act as may be necessary to carry out the obligations of the United States under the Convention, including implementation of the decisions of the Commission.

Pursuant to WCPFC Conservation and Management Measure 2018-01, NMFS issued regulations that established a limit of 1,616 fishing days that may be used by U.S. purse seine fishing vessels in the ELAPS in calendar year 2019 (see interim rule at 84 FR 37145, published July 31, 2019, to be codified at 50 CFR 300.223). The ELAPS consists of the areas of the U.S. Exclusive Economic Zone (EEZ) and the high seas that are in the Convention Area between the latitudes of 20° N and 20° S (see definition at 50 CFR 300.211). A fishing day means any day in which a fishing vessel of the United States equipped with purse seine gear searches for fish, deploys a fish aggregating device (FAD), services a FAD, or sets a purse seine, with the exception of setting a purse seine solely for the purpose of testing or cleaning the gear and resulting in no catch (see definition at 50 CFR 300.211).

Based on data submitted in logbooks and other available information, NMFS expects that the limit of 1,616 fishing days in the ELAPS will be reached, and in accordance with the procedures established at 50 CFR 300.223(a), announces that the purse seine fishery in the ELAPS will be closed starting at 00:00 on October 9, 2019 UTC, and will remain closed until 24:00 on December 31, 2019 UTC. Accordingly, it shall be prohibited for any fishing vessel of the United States equipped with purse seine gear to be used for fishing in the ELAPS from 00:00 on October 9, 2019 UTC until 24:00 December 31, 2019 UTC, except that such vessels will not be prohibited from bunkering in that area during that period (50 CFR 300.223(a)). Fishing means using any vessel, vehicle, aircraft or hovercraft for any of the following activities, or attempting to do so: (1) Searching for, catching, taking, or harvesting fish; (2) engaging in any other activity which can reasonably be expected to result in the locating, catching, taking, or harvesting of fish for any purpose; (3) placing, searching for, or recovering fish aggregating devices or associated electronic equipment such as radio beacons; (4) engaging in any operations at sea directly in support of, or in preparation for, any of the activities previously described in elements (1) through (3) of this definition, including, but not limited to, bunkering; or (5) engaging in transshipment at sea, either unloading or loading fish (see definition at 50 CFR 300.211). As noted above, bunkering will not be prohibited in the closure area during the closure period.

Classification

There is good cause under 5 U.S.C. 553(b)(B) to waive prior notice and opportunity for public comment on this action. Compliance with the notice and comment requirement would be impracticable and contrary to the public interest, since NMFS would be unable to ensure that the 2019 limit on purse seine fishing effort in the ELAPS is not exceeded. This action is based on the best available information on U.S. purse seine fishing effort in the ELAPS. The action is necessary for the United States to comply with its obligations under the Convention and is important for the conservation and management of bigeye tuna, yellowfin tuna, and skipjack tuna in the western and central Pacific Ocean. For the same reasons, there is good cause under 5 U.S.C. 553(d)(3) to establish an effective date less than 30 days after the date of publication of this notice.

This action is required by 50 CFR 300.223(a) and is exempt from review under Executive Order 12866.

Authority: 16 U.S.C. 6901 et seq.

Dated: September 24, 2019.
Jennifer M. Wallace,
Acting Director, Office of Sustainable Fisheries, National Marine Fisheries Service.

[FR Doc. 2019-20998 Filed 9-30-19; 8:45 am]

BILLING CODE 3510-22-P